SECURITIES AND EXCHANGE COMMISSION

Sunshine Act Meeting.

Notice is hereby given, pursuant to the provisions of the Government in the Sunshine Act, Public Law 94-409, that the Securities and Exchange Commission will hold an Open Meeting on Wednesday, April 29, 2015 at 10:00 a.m., in the Auditorium, Room L-002.

The subject matter of the Open Meeting will be:

• The Commission will consider whether to propose amendments and re-propose a rule under the Securities Exchange Act of 1934 (“Exchange Act”) governing the application of certain Title VII requirements to security-based swap transactions connected with a non-U.S. person's dealing activity that are arranged, negotiated, or executed by personnel located in a U.S. branch or office or in a U.S. branch or office of an agent.

• The Commission will consider whether to propose amendments under Section 14(i) of the Exchange Act, as added by Section 953(a) of the Dodd-Frank Wall Street Reform and Consumer Protection Act, requiring registrants to disclose in a clear manner the relationship between executive compensation actually paid and the financial performance of the registrant.

At times, changes in Commission priorities require alterations in the scheduling of meeting items.

For further information and to ascertain what, if any, matters have been added, deleted, or postponed, please contact: The Office of the Secretary at (202) 551-5400.

Dated: April 22, 2015.
Brent J. Fields,
Secretary.

[FR Doc. 2015-09789 Filed 4-23-15; 11:15 am]

BILLING CODE 8011-01-P